DEPARTMENT OF THE TREASURY

Office of Foreign Assets Control

Notice of OFAC Sanctions Actions

AGENCY: Office of Foreign Assets Control, Treasury.

ACTION: Notice

SUMMARY: The U.S. Department of the Treasury's Office of Foreign Assets Control (OFAC) is publishing the names of one or more persons that have been placed on OFAC's Specially Designated Nationals and Blocked Persons List based on OFAC's determination that one or more applicable legal criteria were satisfied. All property and interests in property subject to U.S. jurisdiction of these persons are blocked, and U.S. persons are generally prohibited from engaging in transactions with them.

DATES: See Supplementary Information section for effective date(s).

FOR FURTHER INFORMATION CONTACT: OFAC: Andrea Gacki, Director, tel.: 202-622-2490; Associate Director for Global Targeting, tel.: 202-622-2420; Assistant Director for Licensing, tel.: 202-622-2480; Assistant Director for Regulatory Affairs, tel.: 202-622-4855; or the Assistant Director for Sanctions Compliance & Evaluation, tel.: 202-622-2490.

SUPPLEMENTARY INFORMATION:

Electronic Availability

The Specially Designated Nationals and Blocked Persons List and additional information concerning OFAC sanctions programs are available on OFAC's website (https://www.treasury.gov/ofac).

Notice of OFAC Action(s)

On January 5, 2022, OFAC determined that the property and interests in property subject to U.S. jurisdiction of the following persons are blocked under the relevant sanctions authority listed below.

Individual

1. DODIK, Milorad, Republika Srpska, Bosnia and Herzegovina; DOB 12 Mar 1959; POB Banja Luka, Bosnia and Herzegovina; nationality Bosnia and Herzegovina; Gender Male (individual) [BALKANS] [BALKANS-EO14033].

Designated pursuant to section 1(a)(iii) of Executive Order 14033 of June 8, 2021, “Blocking Property and Suspending Entry into the United States of Certain Persons Contributing to the Destabilizing Situation in the Western Balkans,” 86 FR 31079, 3 CFR 14033 (E.O. 14033) for being responsible for or complicit in, or having directly or indirectly engaged in, a violation of, or an act that has obstructed or threatened the implementation of, any regional security, peace, cooperation, or mutual recognition agreement or framework or accountability mechanism related to the Western Balkans, including the Prespa Agreement of 2018; the Ohrid Framework Agreement of 2001; United Nations Security Council Resolution 1244; the Dayton Accords; or the Conclusions of the Peace Implementation Conference Council held in London in December 1995, including the decisions or conclusions of the High Representative, the Peace Implementation Council, or its Steering Board; or the International Criminal Tribunal for the former Yugoslavia, or, with respect to the former Yugoslavia, the International Residual Mechanism for Criminal Tribunals and pursuant to section 1(a)(v) for being responsible for or complicit in, or having directly or indirectly engaged in, corruption related to the Western Balkans, including corruption by, on behalf of, or otherwise related to a government in the Western Balkans, or a current or former government official at any level of government in the Western Balkans, such as the misappropriation of public assets, expropriation of private assets for personal gain or political purposes, or bribery.

Entity:

1. ALTERNATIVNA TELEVIZIJA D.O.O. BANJA LUKA (a.k.a. ALTERNATIVNA TELEVIZIJA DRUSTVO ZA INFORMISANJE D.O.O. BANJA LUKA; a.k.a. ALTERNATIVNE TELEVIZIJE; a.k.a. “ALTERNATIVE TV”; a.k.a. “ATV”), Ulica Gunduliceva 33, Banja Luka 78000, Bosnia and Herzegovina; Organization Established Date 1997; Tax ID No. 4400946870008 (Bosnia and Herzegovina); Registration Number 1-9857-00 (Bosnia and Herzegovina) [BALKANS-EO14033] (Linked To: DODIK, Milorad).

Designated pursuant to section 1(a)(vii) of E.O. 14033 for being owned or controlled by, or having acted or purported to act for or on behalf of, directly or indirectly, Milorad Dodik.

Dated: January 5, 2022.
Andrea M. Gacki,
Director, Office of Foreign Assets Control, U.S. Department of the Treasury.

[FR Doc. 2022-00576 Filed 1-12-22; 8:45 am]

BILLING CODE 4810-AL-P